DEPARTMENT OF LABOR

Employment and Training Administration

Comment Request for Information Collection for OMB 1205-0452, ETA 9047 Reemployment of Unemployment Insurance (UI) Benefit Recipients Report, Extension Without Revision

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the proposed extension for collection of data on the ETA 9047 Reemployment of UI Benefit Recipients report (current expiration date is September 30, 2014).

DATES: Written comments must be submitted to the office listed in the addresses section below on or before May 19, 2014.

ADDRESSES: Submit written comments to Valerie Rodall, Office of Unemployment Insurance, Employment and Training Administration, U.S. Department of Labor, Room S-4519, 200 Constitution Avenue NW., Washington, DC 20210. Telephone number: 202-693-3194 (this is not a toll-free number). Individuals with hearing or speech impairments may access the telephone number above via TTY by calling the toll-free Federal Information Relay Service at 1-877-889-5627 (TTY/TDD). Email: rodall.valerie@dol.gov. A copy of the proposed information collection request (ICR) can be obtained by contacting the person listed above.

SUPPLEMENTARY INFORMATION:

I. Background

Required by Congress under the Government Performance and Results Act of 1993 (GPRA), the Department's Strategic Plan is an integral part of the budget process. Among the purposes of the GPRA are to improve Federal program effectiveness and public accountability by focusing on program results, service quality, and customer satisfaction.

Outcome Goal 1.3 in the Department's fiscal year (FY) 2011-2016 Strategic Plan—help workers who are in low-wage jobs or out of the labor market find a path into middle-class jobs—focuses on improving the operational performance and effectiveness of the Federal/state UI program. This goal is supported in part by the performance measure:

Percent of UI claimants reemployed by the end of the first quarter after the quarter in which they received their first payment.

ETA collects the data to measure the facilitation of reemployment of UI benefit recipients through the ETA 9047 report. OMB approved the Department's request to begin collecting UI reemployment data through the ETA 9047 report on July 26, 2005. This data collection was renewed in 2011 through September 30, 2014.

ETA has also included UI reemployment as a performance measure for UI Performs, the Department's performance management system for the UI program. Per UI Program Letter (UIPL) No. 17-08 (May 14, 2008), Acceptable Levels of Performance (ALP)—the minimum performance criteria for UI Performs Core Measures—are set annually for each state. The ALPs take into account the state's total unemployment rate and the percentage of UI claimants who are exempt from active work search or Employment Service (ES) registration requirements because they are job-attached. Analyses of the data indicate that UI reemployment is strongly related to these two factors.

Data Collection

Each calendar quarter, states report on the ETA 9047 report separate counts for individuals receiving their first UI payments who are exempt from active work search or ES registration requirements, in most cases because they are job-attached with definite recall dates, and those not exempt from active work search or ES registration requirements.

States also report on the ETA 9047 report the number of those first payment recipients for whom intrastate or out-of-state employers reported wages in the subsequent quarter. States obtain these counts by crossmatching the Social Security Numbers (SSNs) of claimants who received UI first payments with the UI wage records for the subsequent calendar quarter. ETA issued instructions on obtaining out-of-state reemployment data through matching the SSNs of UI first payment recipients with UI wage records in the National Directory of New Hires in UIPL No. 1-06, Change 1 (August 2, 2006).

UI Reemployment GPRA and UI Performs Measures

The UI reemployment GPRA and UI Performs measures are defined as the percentage of all UI claimants receiving a first payment in a calendar quarter who were paid wages in the following calendar quarter, based on state UI wage records.

ETA believes that this measure encourages the state agencies that administer UI—which share responsibility with all Workforce Investment partners in facilitating the reemployment of UI beneficiaries—to be innovative in the steps they take to facilitate these individuals' reemployment.

The following table summarizes GPRA targets and performance for the UI reemployment measure.

GPRA Targets and Performance
Performance measure | FY 2012 target | FY 2012 actual | FY 2013 target | FY 2013 actual | FY 2014 target
Facilitate Reemployment:
Percent of UI claimants who were reemployed by the end of the first quarter after the quarter in which they received their first payment | 56.4 | 62.4 | 63.0 | * 62.5 | 64.7
* UI reemployment for the period July 2012 to June 2013, which is the most recent data available.

ETA's analyses of the data show that state performance in the reemployment of UI benefit recipients is significantly influenced by forces outside the control of the agency administering the state UI program, most notably by the economic conditions in the state, as measured by the total unemployment rate, and the percent of UI benefit recipients who are job-attached, as measured by the percent of claimants who are not required to conduct active work search or register with the state ES. State ALPs for the UI Performs Core Measure reflect state-specific data for these two factors. State ALPs and performance for the period January to December 2012 are available at http://www.oui.doleta.gov/unemploy/pdf/Core_Measures.pdf. (Click the “State ALP Table” link in the Acceptable Levels of Performance column in the Reemployment Measure section.)

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without revision.

Title: ETA 9047 Reemployment of UI Benefit Recipients.

OMB Number: 1205-0452.

Affected Public: State Workforce Agencies (SWAs).

Estimated Total Annual Respondents: 53 SWAs.

Annual Frequency: Quarterly.

Estimate Total Annual Responses: 212 per year (53 SWAs × 4 quarterly reports per year).

Average Time per Response: 10 hours.

Estimated Total Annual Burden Hours: 2,120 hours.

Total Estimated Annual Other Cost Burden: $0.

Comments submitted in response to this comment request will be summarized and/or included in the request for OMB approval of the ICR; they will also become a matter of public record.

Dated: March 14, 2014.
Eric M. Seleznow,
Acting Assistant Secretary for Employment and Training, Labor.

[FR Doc. 2014-06130 Filed 3-19-14; 8:45 am]

BILLING CODE 4510-FW-P